DEPARTMENT OF AGRICULTURE

Hood/Willamette Resource Advisory Committee (RAC)

AGENCY: Forest Service, USDA Forest Service

ACTION: Action of meeting.

SUMMARY: The Hood/Willamette Resource Advisory Committee (RAC) will meet on Wednesday, October 28, 2009. The meeting and field trip is scheduled to begin at 9:30 a.m. and will conclude at approximately 4:30 p.m. The meeting will be held at the Mt. Hood National Forest Headquarters; 16400 Champion Way; Sandy, Oregon; (503) 668-1700. The tentative agenda includes: (1) Public Forum; and (2) Field Trip to Title II Projects.

The Public Forum is tentatively scheduled to begin at 9:45 a.m. Time allotted for individual presentations will be limited to 3-4 minutes. Written comments are encouraged, particularly if the material cannot be presented within the time limits for the Public Forum. Written comments may be submitted prior to the October 28th meeting by sending them to Designated Federal Official Connie Athman at the address given below.

FOR FURTHER INFORMATION CONTACT: For more information regarding this meeting, contact Designated Federal Official Connie Athman; Mt. Hood National Forest; 16400 Champion Way; Sandy, Oregon 97055; (503) 668-1672.

Dated: September 28, 2009.
Kathryn J. Silverman,
Deputy Forest Supervisor.

[FR Doc. E9-23789 Filed 10-5-09; 8:45 am]

BILLING CODE 3410-11-M